DEPARTMENT OF COMMERCE

National Oceanic and Atmospheric Administration

RIN 0648-XR95

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held October 19 - 22, 2009. See SUPPLEMENTARY INFORMATION for specific dates and times.

ADDRESSES: The meetings will be held at the Holiday Inn, 1102 S. Shoreline Blvd., Corpus Christi, TX 78401.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, October 21, 2009

10:30 a.m. - The Council meeting will begin with a review of the agenda and minutes and approve the Committee Appointments.

11 a.m. - 12 noon - The Council will receive a presentation on Catch Shares Task Force.

1:30 p.m. - 5:30 p.m. - They will receive public testimony on exempted fishing permits (EFPs), if any; Modifications to Reef Fish Amendment 29; and the Council will hold an open public comment period regarding any fishery issue of concern. People wishing to speak before the Council should complete a public comment card prior to the comment period.

Thursday, October 22, 2009

8:30 a.m. - 12:45 p.m. - The Council will review and discuss reports from the committee meetings as follows: Reef Fish Management; Administrative Policy; Data Collection; Spiny Lobster/Stone Crab Management; Sustainable Fisheries/Ecosystem; Coastal Migratory Pelagics (Mackerel) Management; Shrimp Management; AP Selection Committee and SEDAR Selection Committee.

12:45 p.m. - 1 p.m. - Other Business items will follow. The Council will conclude its meeting at approximately 1 p.m.

Committees

Monday, October 19, 2009

9 a.m. - 10 a.m. - CLOSED SESSION (Full Council) - The Administrative Policy Committee will discuss Administrative Matters.

10 a.m. - 10:30 a.m. - CLOSED SESSION (Full Council) - The SEDAR Selection Committee will approve the SEDAR 19 (Black Grouper) Review Workshop Participants; select the SEDAR 22 (Yellowedge Grouper and Tilefish) Data Workshop Participants and the SEDAR Procedural Workshop IV - Characterizing Uncertainty Participants.

10:30 a.m. - 11 a.m. - CLOSED SESSION (Full Council) - The AP Selection Committee will appoint the Chair and Vice Chair for the Ad Hoc LAPP AP; Appoint Ad Hoc Data Collection AP; and Receive the report on status of fishery violations.

12:30 p.m. - 1 p.m. - The Data Collection Committee will review a report of the Logbook Workshop.

1 p.m. - 2 p.m. - The Shrimp Management Committee will review the “Status and Health of the Shrimp Stocks for 2008”; review the “Stock Assessment Report 2008 - Gulf of Mexico Shrimp Fishery”; review of “A Biological Review of the Tortugas Pink Shrimp Fishery Through December 2008; and a Preliminary Report of Shrimp Effort in 2009.

2 p.m. - 3 p.m. - The Spiny Lobster/Stone Crab Committee will discuss the Scoping Hearing Summaries for Spiny Lobster Amendment 10 and Suggestions for Spiny Lobster Amendment 10 Options.

3 p.m. - 5:30 p.m. - The Sustainable Fisheries/Ecosystem Committee will discuss the Report from the ABC Control Workgroup; the Scoping Hearing Summaries from the Generic ACL/AM Amendment; and the 5-year Research Plan.

Tuesday, October 20, 2009

8:30 a.m. - 4 p.m. - The Reef Fish Management Committee will meet to discuss the Gag/Red Grouper Amendment Scoping Document (Reef Fish Amendment 32) and select Scoping Hearing Locations; receive a presentation on the New ESA Biological Opinion Analyzing the Gulf Reef Fish Fishery and its Effects on Listed Species; Alternative Options for Red Snapper Recreational Season; Modifications to the regulations in Amendment 29; Terms of Reference for Greater Amberjack, Yellowedge Grouper and Tilefish Assessments; Hook Limit Analyses for Amendment 31; Develop LAPP Charge; and Discussion on the Sector Separation.

4 p.m. - 5:30 p.m. - The Administrative Policy Committee will discuss modifications to SOPPs and Handbook Development.

-Recess-

Immediately Following Committee Recess - There will be an informal open public question and answer session.

Wednesday, October 21, 2009

8:30 a.m. - 10:30 a.m. - The Coastal Migratory Pelagics (CMP) (Mackerel) Management Committee will discuss the CMP Scoping Meeting Summaries and options for the CMP Amendment 18 Amendment 20 Options.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: September 28, 2009.
Tracey L. Thompson,
Acting Director, Office of Sustainable Fisheries, National Marine Fisheries Service.

[FR Doc. E9-23745 Filed 9-30-09; 8:45 am]

BILLING CODE 3510-22-S